DEPARTMENT OF STATE

[Public Notice 8325]

Shipping Coordinating Committee; Notice of Committee Meeting

The Shipping Coordinating Committee (SHC) will conduct an open meeting at 9:30 a.m. on Thursday, June 6, in Room 6103, of the United States Coast Guard Headquarters Building, 2100 Second Street, SW., Washington, DC 20593-7126. The primary purpose of the meeting is to prepare for the ninety-first Session of the International Maritime Organization's (IMO) Marine Safety Committee to be held at the IMO Headquarters, London, England, United Kingdom, June 12-21, 2012.

The matters to be considered include:

Adoption of the agenda; report on credentials

Decisions of other IMO bodies

Consideration and adoption of amendments to mandatory instruments

Measures to enhance maritime security

Goal-based new ship construction standards

LRIT-related matters

Passenger ship safety

Making the Polar Code mandatory

Radiocommunications and search and rescue (report of the sixteenth session of the Sub-Committee)

Flag State implementation (report of the twentieth session of the Sub-Committee)

Training and Watchkeeping (report of the forty-third session of the Sub-Committee)

Safety of navigation (report of the fifty-eighth session of the Sub-Committee)

Dangerous goods, solid cargoes and containers (urgent matters emanating from the seventeenth session of the Sub-Committee)

Technical co-operation activities relating to maritime safety and security

Capacity-building for the implementation of new measures

Formal safety assessment

Piracy and armed robbery against ships

Implementation of instruments and related matters

Work programme

Election of Chairman and Vice-Chairman for 2013

Any other business

Consideration of the report of the Committee on its ninety-first session

Members of the public may attend this meeting up to the seating capacity of the room. To facilitate the building security process, and to request reasonable accommodation, those who plan to attend should contact the meeting coordinator, LCDR Matthew Frazee, by email at imo@uscg.mil; by phone at (202) 372-1376; or in writing at Commandant (CG-5PS), U.S. Coast Guard, 2100 2nd Street SW., Stop 7126, Washington, DC 20593-7126. Requests should be made no later than November 9, 2012. Requests made after this date might not be able to be accommodated. Please note that due to security considerations, two valid, government issued photo identifications must be presented to gain entrance to the Headquarters building. The Headquarters building is accessible by taxi and privately owned conveyance (public transportation is not generally available), however, parking in the vicinity of the building is extremely limited. Additional information regarding this and other IMO SHC public meetings may be found at: www.uscg.mil/imo.

Dated: May 13, 2013.
Brian Robinson,
Executive Secretary, Shipping Coordinating Committee, Department of State.

[FR Doc. 2013-11876 Filed 5-16-13; 8:45 am]

BILLING CODE 4710-09-P